DEPARTMENT OF JUSTICE

Notice of Lodging of the “SIGECO” Proposed Consent Decree Under the Clean Air Act

Notice is hereby given that on June 6, 2003, a proposed Consent Decree (“proposed Decree”) in United States v. Southern Indiana Gas & Electric Co. (“SIGECO”), Civil Action No. IP99-1692 C-M/F, was lodged with the United States District Court for the Southern District of Indiana.

In the Amended Complaint filed under the federal Clean Air Act (“Act”) in January 2000, the United States alleged that SIGECO, an electric utility, failed to comply with certain requirements of the Act intended to prevent deterioration of air quality. The Amended Complaint alleged that SIGECO failed to seek permits prior to making major modifications to the three units located at the F.B. Culley Station in Newburgh, Indiana (“Culley plant”), and failed to install appropriate pollution control devices at the Culley plant to reduce emissions of air pollutants.

The proposed Decree lodged with the Court requires installation, upgrading, and operation of pollution control devices at the Culley plant, including the installation and operation of a state-of-the-art control device to reduce emissions of particulate matter. The proposed Decree also requires SIGECO to take specific measures to operate pollution control equipment to reduce emissions of nitrogen oxides and sulfur dioxides from the Culley plant. In addition, under the proposed Decree SIGECO will carry out an environmental mitigation project, valued at $2.5 million, to install and operate technology to reduce emission of sulfuric acid from the Culley plant, and pay a civil penalty of $600,000.

The Department of Justice will receive for a period of thirty (30) days from the date of this publication comments relating to the proposed Decree. Comments should be addressed to the Assistant Attorney General, Environment and Natural Resources Division, P.O. Box 7611, U.S. Department of Justice, Washington, DC 20044-7611, and should refer to United States v. Southern Indiana Gas & Electric Co., D.J. Ref. 90-5-2-1-06966.

The proposed Decree may be examined at the offices of the United States Attorney, Southern District of Indiana, 10 West Market St., Suite 2100, Indianapolis, IN 46204-3048, and at the offices of U.S. EPA Region 5, 777 W. Jackson Street, Chicago, IL 60604-3507.

During the public comment period, the proposed Decree may also be examined on the following Department of Justice website, http://www.usdoj.gov/enrd/open.html. A copy of the proposed Decree may also be obtained by mail from the Consent Decree Library, P.O. Box 7611, U.S. Department of Justice, Washington, DC 20044-7611 or by faxing or e-mailing a request to Tonia Fleetwood (tonia.fleetwood@usdoj.gov), fax no. (202) 514-0097, phone confirmation number (202) 514-1547. In requesting a copy from the Consent Decree Library, please enclose a check in the amount of $11.50 (25 cents per page reproduction cost) payable to the U.S. Treasury.

Thomas A. Mariani, Jr.,
Assistant Chief, Environmental Enforcement Section, Environment and Natural Resources Division.

[FR Doc. 03-15441 Filed 6-18-03; 8:45 am]

BILLING CODE 4410-15-M